FEDERAL DEPOSIT INSURANCE CORPORATION

Notice of a Matter To Be Added to the Agenda for Consideration at an Agency Meeting

Pursuant to the provisions of the “Government in the Sunshine Act” (5 U.S.C. 552b), notice is hereby given that the following matter will be added to the “discussion agenda” for consideration at the open meeting of the Board of Directors of the Federal Deposit Insurance Corporation scheduled to be held at 10:00 a.m. on Thursday, December 21, 2000, in the Board Room on the sixth floor of the FDIC Building located at 550—17th Street, NW., Washington, DC:

Memorandum and resolution re: Disclosure and Reporting of Community; Reinvestment Act-Related Agreements: Joint Final Rule.

Requests for further information concerning the meeting may be directed to Mr. Robert E. Feldman, Executive Secretary of the Corporation, at (202) 898-6757.

Federal Deposit Insurance Corporation.
Dated: December 20, 2000.
Robert E. Feldman,
Executive Secretary.

[FR Doc. 00-32915 Filed 12-21-00; 8:45 am]

BILLING CODE 6714-01-M